DEPARTMENT OF COMMERCE

National Oceanic and Atmospheric Administration

RIN 0648-XA061

Schedules for Atlantic Shark Identification Workshops and Protected Species Safe Handling, Release, and Identification Workshops; Correction

AGENCY: National Marine Fisheries Service (NMFS), National Oceanic and Atmospheric Administration (NOAA), Commerce.

ACTION: Notice of public workshops; correction.

SUMMARY: Due to inclement weather, NMFS cancelled the Protected Species Safe Handling, Release, and Identification workshop that was originally scheduled for January 13, 2011, in Manahawkin, NJ. This workshop was announced on December 1, 2010. NMFS has rescheduled the workshop for February 10, 2011, to be held at the same time (of day) and location: 9 a.m. to 5 p.m., Holiday Inn, 151 Route 72 East, Manahawkin, NJ 08050.

DATES: The Protected Species Safe Handling, Release, and Identification workshop that was originally scheduled for January 13, 2011, in Manahawkin, NJ, has been rescheduled for February 10, 2011. See SUPPLEMENTARY INFORMATION for further details.

ADDRESSES: The location of the rescheduled workshop has not changed. See SUPPLEMENTARY INFORMATION for further details.

FOR FURTHER INFORMATION CONTACT: Richard A. Pearson of the Highly Migratory Species Management Division at (727) 824-5399.

SUPPLEMENTARY INFORMATION:

Need for Correction

In the Federal Register of December 1, 2010 (75 FR 74693), in FR Doc. 2010-30238, on page 74694, in the third column, the date of the second Protected Species Safe Handling, Release, and Identification workshop listed under the heading “Workshop Dates, Times, and Locations” should be corrected to read as follows:

2. February 10, 2011, 9 a.m.-5 p.m., Holiday Inn, 151 Route 72 East, Manahawkin, NJ 08050.

Background

This workshop, originally scheduled for January 13, 2011, has been rescheduled to February 10, 2011, due to inclement weather along the east coast of the United States on the date of the originally scheduled workshop.

To register for a Protected Species Safe Handling, Release, and Identification workshop, please contact Angler Conservation Education at (386) 682-0158.

Registration Materials

To ensure that workshop certificates are linked to the correct permits, participants will need to bring specific items to the workshop:

• Individual vessel owners must bring a copy of the appropriate swordfish and/or shark permit(s), a copy of the vessel registration or documentation, and proof of identification.

• Representatives of a business owned or co-owned vessel must bring proof that the individual is an agent of the business (such as articles of incorporation), a copy of the applicable swordfish and/or shark permit(s), and proof of identification.

• Vessel operators must bring proof of identification.

Dated: January 26, 2011.
Emily H. Menashes,
Acting Director, Office of Sustainable Fisheries, National Marine Fisheries Service.

[FR Doc. 2011-2072 Filed 1-28-11; 8:45 am]

BILLING CODE 3510-22-P